DEPARTMENT OF LABOR

Employment and Training Administration

[TA-W-75,158]

Penske Logistics, LLC, Customer Service Department General Motors and Tier Finished Goods/Finished Goods Division; a Subsidiary of General Electric/Penske Corporation Including On-Site Leased Workers From Kelly Temporary Services and Manpower El Paso, TX; Amended Certification Regarding Eligibility To Apply for Worker Adjustment Assistance

In accordance with Section 223 of the Trade Act of 1974, as amended (“Act”), 19 U.S.C. 2273, the Department of Labor issued a Certification of Eligibility to Apply for Worker Adjustment Assistance on September 1, 2010, applicable to workers of Penske Logistics, LLC, Customer Service Department, a subsidiary of General Electric/Penske Corporation, including on-site leased workers from Kelly Temporary Services and Manpower. The workers are engaged in the supply of customer service. The notice was published in the Federal Register on March 10, 2011 (76 FR 13233).

At the request of the Texas Workforce Agency, the Department reviewed the certification for workers of the subject firm.

New information shows that the Department did not identify the worker group department of the subject firm name in its entirety on the certification decision. The correct name of the worker group department of the subject firm should read Penske Logistics, LLC, Customer Service Department, General Motors and Tier Finished Goods/Finished Goods Division.

Accordingly, the Department is amending this certification to correct the name of the subject firm to read Penske Logistics, LLC, Customer Service Department, General Motors and Tier Finished Goods/Finished Goods Division.

The amended notice applicable to TA-W-75,158 is hereby issued as follows:

All workers of Penske Logistics, LLC, Customer Services Department, General Motors and Tier Finished Goods/Finished Goods Division, a subsidiary of General Electric/Penske Corporation, including on-site leased workers from Kelly Temporary Services and Manpower, El Paso, Texas, who became totally or partially separated from employment on or after January 31, 2010, through February 23, 2013, and all workers in the group threatened with total or partial separation from employment on the date of certification through two years from the date of certification, are eligible to apply for adjustment assistance under Chapter 2 of Title II of the Trade Act of 1974, as amended.

Signed at Washington, DC, this 8th day of December 2011.
Elliott S. Kushner,
Certifying Officer, Division of Trade Adjustment Assistance.

[FR Doc. 2011-32614 Filed 12-20-11; 8:45 am]

BILLING CODE 4510-FN-P